DEPARTMENT OF EDUCATION

National Education Goals Panel; Meeting

AGENCY: National Education Goals Panel.

ACTION: Notice of meeting.

SUMMARY: This notice sets forth the date and location of a forthcoming meeting of the National Education Goals Panel (NEGP). This notice also describes the functions of the Panel.

DATES AND TIMES: Thursday, December 7, 2000 from 10:00 a.m. to 12:00 p.m.

ADDRESSES: National Press Club, 529 14th Street, NW, Ballroom, 13th Floor, Washington, DC 20005.

FOR FURTHER INFORMATION CONTACT: Ken Nelson, Executive Director, 1255 22nd Street, NW, Suite 502, Washington, DC 20037. Telephone: (202) 724-0015.

SUMMARY: The National Education Goals Panel was established to monitor, measure and report state and national progress toward achieving the eight National Education Goals, and report to the states and the Nation on that progress.

AGENDA ITEMS: The meeting of the Panel is open to the public. Agenda items will include: (1) NEGP's Measuring Success Task Force will present recommendations; (2) The Panel will issue a summary of the public hearings about bringing all students to high standards, convened this year by Governor Tommy Thompson (WI). The Panel will decide what findings and policy recommendations it would like to make on this important subject; and (3) Thank you and farewell expressions will be made to those attending their last Panel meeting (Secretary Riley, Assistant Secretary Michael Cohen, Governors James B. Hunt (NC) and Cecil Underwood (WV) and Executive Director Ken Nelson.

Dated: November 17, 2000.
Ken Nelson,
Executive Director, National Education Goals Panel.

[FR Doc. 00-29941 Filed 11-22-00; 8:45 am]

BILLING CODE 4010-01-M